DEPARTMENT OF DEFENSE

[Docket ID: DoD-2021-HA-0023]

Proposed Collection; Comment Request

AGENCY: The Office of the Assistant Secretary of Defense for Health Affairs, Department of Defense (DoD).

ACTION: Information collection notice.

SUMMARY: In compliance with the Paperwork Reduction Act of 1995, the Defense Health Agency announces a proposed public information collection and seeks public comment on the provisions thereof. Comments are invited on: Whether the proposed collection of information is necessary for the proper performance of the functions of the agency, including whether the information shall have practical utility; the accuracy of the agency's estimate of the burden of the proposed information collection; ways to enhance the quality, utility, and clarity of the information to be collected; and ways to minimize the burden of the information collection on respondents, including through the use of automated collection techniques or other forms of information technology.

DATES: Consideration will be given to all comments received by June 15, 2021.

ADDRESSES: You may submit comments, identified by docket number and title, by any of the following methods:

Federal eRulemaking Portal: http://www.regulations.gov. Follow the instructions for submitting comments.

Mail: The DoD cannot receive written comments at this time due to the COVID-19 pandemic. Comments should be sent electronically to the docket listed above.

Instructions: All submissions received must include the agency name, docket number and title for this Federal Register document. The general policy for comments and other submissions from members of the public is to make these submissions available for public viewing on the internet at http://www.regulations.gov as they are received without change, including any personal identifiers or contact information.

FOR FURTHER INFORMATION CONTACT: To request more information on this proposed information collection or to obtain a copy of the proposal and associated collection instruments, please write to the Office of Information Management; 4800 Mark Center Drive, Suite 03F09, Alexandria, VA 22311; ATTN: Ms. Angela Duncan or call 571-372-7574.

SUPPLEMENTARY INFORMATION:

Title; Associated Form; and OMB Number: COVID-19 Vaccine Screening and Immunization Documentation; DHA Form 207; OMB Control Number 0720-0068.

Needs and Uses: The Defense Health Agency (DHA) has created the DHA Form 207, “COVID-19 Vaccine Screening and Immunization Documentation” to determine if the COVID-19 vaccine can be administered to a patient. The DHA Form 207 is used to determine and document patient eligibility and vaccine declinations for a COVID-19 vaccination. Respondents include Active Duty military members, Federal employees, beneficiaries, and contractors (based on their employment) who wish to receive the vaccine.

Affected Public: Individuals or households.

Annual Burden Hours: 1,500,000.

Number of Respondents: 9,000,000.

Responses per Respondent: 1.

Annual Responses: 9,000,000.

Average Burden per Response: 10 minutes.

Frequency: On occasion.

Dated: April 13, 2021.
Aaron T. Siegel,
Alternate OSD Federal Register Liaison Officer, Department of Defense.

[FR Doc. 2021-07828 Filed 4-15-21; 8:45 am]

BILLING CODE 5001-06-P